ENVIRONMENTAL PROTECTION AGENCY

40 CFR Parts 9, 86 and 600

[FRL-8161-7]

OMB Approvals Under the Paperwork Reduction Act; Technical Amendment

AGENCY: Environmental Protection Agency (EPA).

ACTION: Final rule.

SUMMARY: In compliance with the Paperwork Reduction Act (PRA), this technical amendment amends the table that lists the Office of Management and Budget (OMB) control numbers issued under the PRA for Motor Vehicle Emission and Fuel Economy Compliance; Light Duty Vehicles, Light Duty Trucks, and Highway Motorcycles.

DATES: Effective Date: This final rule is effective April 27, 2006.

The information collection requirements for part 86 published in the Federal Register at 59 FR 16262, April 6, 1994, which apply to 1998 and later model year vehicles, have been approved by the Office of Management and Budget and are effective April 27, 2006.

40 CFR 600.206-93, 600.207-93, 600.209-95, 600.307-95, and 600.510-93, published at 59 FR 39638, August 3, 1994, containing information requirements which have been approved by the Office of Management and Budget, are effective April 27, 2006.

FOR FURTHER INFORMATION CONTACT: Lynn Sohacki, Certification and Compliance Division, 2000 Traverwood Drive, Ann Arbor, MI 48103; (734) 214-4851; sohacki.lynn@epa.gov.

SUPPLEMENTARY INFORMATION: This rule does two things. First, EPA is amending the table in 40 CFR part 9 of currently approved information collection request (ICR) control numbers issued by OMB for various regulations. The amendment updates the table to list those information collection requirements approved by OMB on November 1, 2005, under control number 2060-0104. The regulations affected by the amendments are codified at 40 CFR parts 85 and 86. EPA will continue to present OMB control numbers in a consolidated table format to be codified in 40 CFR part 9 of the Agency's regulations, and in each CFR volume containing relevant EPA regulations. The table lists CFR citations with reporting, recordkeeping, or other information collection requirements, and the current OMB control numbers. This listing of the OMB control numbers and their subsequent codification in the CFR satisfies the requirements of the Paperwork Reduction Act (44 U.S.C. 3501 et seq.) and OMB's implementing regulations at 5 CFR part 1320.

Second, the rule also makes conforming amendments to the affected regulations by removing three sets of provisions in the Code of Federal Regulations on related information collections that are no longer applicable. The first of these provisions appears as a note at the end of the table of contents to part 86 of the Code and states that information collections in regulations appearing in the Federal Register on April 6, 1994, have not been approved by OMB. The referenced regulations implemented new onboard refueling vapor recovery (ORVR) requirements. They are covered by OMB 2060-0104 and have been in approved Information Collection Requests of EPA's 0783 series since 1995. The note has long been out of date and this amendment removes it. Similarly, the second set of provisions is five notices appearing in part 600 regarding information collections contained in regulations appearing in the Federal Register on August 3, 1994. That rule modified the fuel economy regulations to include alternative-fueled vehicles. These regulations are covered by OMB 2060-0104 and have also been in approved Information Collection Requests of EPA's 0783 series since 1995. Today's rule removes these notices as well. The removal of these first two sets of provisions is accomplished by the language under the Effective Date heading of today's rule. The effective date given under that heading is the date of publication of today's rule. The information collections themselves have long been approved by OMB, as discussed above, are currently covered by OMB 2060-0104, and are listed with the relevant CFR citations in part 9. The third provision is 40 CFR part 86, subpart AA. Section 86.2500 in subpart AA states that “All reporting and recordkeeping requirements contained in part 86, except for those requirements contained in subparts G and K, have been approved by the Office of Management and Budget under control number 2060-0104.” This provision was promulgated at 50 FR 10648 on March 15, 1985. Subparts G and K deal with Selective Enforcement Auditing of light-duty vehicles and of heavy-duty engines, heavy-duty vehicles, and light-duty trucks. The ICR for the March 15, 1985, rulemaking, ICR 0783.29, was approved without restrictions in August, 1985. Both the light and heavy duty Selective Enforcement Audit information collections were covered by OMB 2060-0064, until the heavy-duty portion was incorporated into 2060-0287 with IRC 1684.06 and the light-duty portion was incorporated into 2060-0104. Both of these control numbers have current approvals and the list in part 9 is updated to reflect this coverage of Selective Enforcement Audit collections. Today's rule removes Subpart AA.

The ICRs covered by this rule were previously subject to public notice and comment prior to OMB approval. Due to the technical nature of the table and conforming amendments, EPA finds that further notice and comment is unnecessary. As a result, EPA finds that there is “good cause” under section 553(b)(B) of the Administrative Procedure Act, 5 U.S.C. 553(b)(B), to amend this table without prior notice and comment.

I. Administrative Requirements

Under Executive Order 12866 (58 FR 51735, October 4, 1993), this action is not a “significant regulatory action” and is therefore not subject to review by the Office of Management and Budget. In addition, this action does not impose any enforceable duty, contain any unfunded mandate, or impose any significant or unique impact on small governments as described in the Unfunded Mandates Reform Act of 1995 (Pub. L. 104-4). This rule also does not require prior consultation with State, local, and tribal government officials as specified by Executive Order 12875 (58 FR 58093, October 28, 1993) or Executive Order 13084 (63 FR 27655 (May 10, 1998), or involve special consideration of environmental justice related issues as required by Executive Order 12898 (59 FR 7629, February 16, 1994). Because this action is not subject to notice-and-comment requirements under the Administrative Procedure Act or any other statute, it is not subject to the regulatory flexibility provisions of the Regulatory Flexibility Act (5 U.S.C. 601 et seq.). This rule also is not subject to Executive Order 13045 (62 FR 19885, April 23, 1997) because EPA interprets E.O. 13045 as applying only to those regulatory actions that are based on health or safety risks, such that the analysis required under section 5-501 of the Order has the potential to influence the regulation. This rule is not subject to E.O. 13045 because it does not establish an environmental standard intended to mitigate health or safety risks.

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a good cause finding that notice and public procedure is impracticable, unnecessary or contrary to the public interest. This determination must be supported by a brief statement. 5 U.S.C. 808(2). As stated previously, EPA has made such a good cause finding, including the reasons therefor, and established an effective date of April 27, 2006. EPA will submit a report containing this rule and other required information to the U.S. Senate, the U.S. House of Representatives, and the Comptroller General of the United States prior to publication of the rule in the Federal Register. This action is not a “major rule” as defined by 5 U.S.C. 804(2).

List of Subjects

40 CFR Part 9

Environmental protection, Reporting and recordkeeping requirements.

40 CFR Part 86

Environmental protection, Administrative practice and procedure, Air pollution control, Confidential business information, Diesel, Gasoline, Fees, Imports, Labeling, Motor vehicle pollution, Reporting and recordkeeping requirements.

Dated: April 17, 2006.
Margo Tsirigotis Oge,
Director, Office of Transportation and Air Quality.

For the reasons set out in the preamble, 40 CFR parts 9 and 86 are amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1 the table is amended as follows:

a. Under the heading “Control of Air Pollution From Motor Vehicles and Motor Vehicle Engines” by:

i. Removing the entry for “85.2112-85.2123”;

ii. Revising entries for “85.1504”, “85.1505”, “85.1507”, “85.1508”, “85.1509”, “85.1511”, “85.1512”, “85.1514” , “85.2114” and “85.2115”; and

iii. Adding entries in numerical order for “85.1710”, “85.1808”, “85.2110”, “85.2116”, “85.2117”, “85.2118”, “85.2119”, “85.2120”, “85.2123”, and “85.2401-85.2409”.

b. Under the heading “Control of Emissions From New and In-Use Highway Vehicles and Engines” by:

i. Removing the entry for “86.2500” and “86.449-2006”;

ii. Revising the entries for “86.446-2006”, “86.447-2006”, 86.448-2006”, “86.603-88”, “86.605-88”, “86.606-84”, “86.608-88”, “86.608-90”, “86.609-84”, “86.612-84”, “86.614-84”, “86.1003-90” , “86.1003-97”, “86.1003-2001”, “86.1004-84”, “86.1005-90”, “86.1006-84”, “86.1007-84”, “86.1008-90”, “86.1008-96”, “86.1009-84”, “86.1009-96”, “86.1009-2001”, “86.1012-84”, “86.1012-97”, “86.1014-84”, “86.1015-87”, “86.1708”, “86.1709”, “86.1710”, “86.1713”, “86.1714”, “86.1717”, “86.1724”, “86.1725”, “86.1726”, “86.1728”, “86.1735”, “86.1770”, “86.1771”, “86.1776”, “86.1777”, and “86.1778”; and

iii. Adding an entry in numerical order for “86.445-2006” and “86.449” to read as follows:

§ 9.1 OMB approvals under the Paperwork Reduction Act.

* * * * *

40 CFR citation | OMB control No.
* * * * *
Control of Air Pollution From Motor Vehicles and Motor Vehicle Engines
* * * * *
85.1504 | 2060-0095
85.1505 | 2060-0095
85.1507 | 2060-0095
85.1508 | 2060-0095
85.1509 | 2060-0095
85.1511 | 2060-0095
85.1512 | 2060-0095
85.1514 | 2060-0095
* * * * *
85.1710 | 2060-0104
* * * * *
85.1808 | 2060-0104
* * * * *
85.2110 | 2060-0104
85.2114 | 2060-0060
85.2115 | 2060-0060
85.2116 | 2060-0060
85.2117 | 2060-0060
85.2118 | 2060-0060
85.2119 | 2060-0060
85.2120 | 2060-0060
85.2123 | 2060-0104
* * * * *
85.2401-85.2409 | 2060-0104, 2060-0545
Control of Emissions From New and In-Use Highway Vehicles and Engines
* * * * *
86.445-2006 | 2060-0104
86.446-2006 | 2060-0104
86.447-2006 | 2060-0104
86.448-2006 | 2060-0104
86.449 | 2060-0104
* * * * *
86.603-88 | 2060-0104
* * * * *
86.605-88 | 2060-0104
* * * * *
86.606-84 | 2060-0104
* * * * *
86.608-88 | 2060-0104
86.608-90 | 2060-0104
* * * * *
86.609-84 | 2060-0104
* * * * *
86.612-84 | 2060-0104
| * * * * *
86.614.84 | 2060-0104
* * * * *
86.1003-90 | 2060-0104, 2060-0287
86.1003-97 | 2060-0104, 2060-0287
86.1003-2001 | 2060-0104, 2060-0287
86.1004-84 | 2060-0104, 2060-0287
86.1005-90 | 2060-0104, 2060-0287
86.1006-84 | 2060-0104, 2060-0287
86.1007-84 | 2060-0104, 2060-0287
86.1008-90 | 2060-0104, 2060-0287
86.1008-96 | 2060-0104, 2060-0287
86.1009-84 | 2060-0104, 2060-0287
86.1009-96 | 2060-0104, 2060-0287
86.1009-2001 | 2060-0104, 2060-0287
86.1012-84 | 2060-0104, 2060-0287
86.1012-97 | 2060-0104, 2060-0287
86.1014-84 | 2060-0104, 2060-0287
86.1015-87 | 2060-0104, 2060-0287
* * * * *
86.1708 | 2060-0104
86.1709 | 2060-0104
86.1710 | 2060-0104
* * * * *
86.1713 | 2060-0104
86.1714 | 2060-0104
86.1717 | 2060-0104
* * * * *
86.1724 | 2060-0104
86.1725 | 2060-0104
86.1726 | 2060-0104
86.1728 | 2060-0104
* * * * *
86.1735 | 2060-0104
86.1770 | 2060-0104
86.1771 | 2060-0104
86.1776 | 2060-0104
86.1777 | 2060-0104
86.1778 | 2060-0104
* * * * *

PART 86—[AMENDED]

3. The authority citation for part 86 continues to read as follows:

Authority: 42 U.S.C. 7401-7671q.

Subpart AA—[Removed]

4. Subpart AA is removed.

[FR Doc. 06-3900 Filed 4-26-06; 8:45 am]

BILLING CODE 6560-50-P